DEPARTMENT OF HOMELAND SECURITY

[Docket No. DHS-2011-0118]

Agency Information Collection Activities: Submission for Review; Information Collection Request for the Department of Homeland Security (DHS), Science and Technology, Project 25 Compliance Assessment Program (P25 CAP)

AGENCY: Science and Technology Directorate, DHS.

ACTION: 60-day notice and request for comment.

SUMMARY: The Department of Homeland Security (DHS) invites the general public to comment on the renewal of existing data collection forms for the DHS Science and Technology Directorate's Project 25 (P25) Compliance Assessment Program (CAP): Supplier's Declaration of Compliance (SDoC) (DHS Form 10044 (6/08)) and Summary Test Report (DHS Form 10056 (9/08)). The attacks of September 11, 2001, and the destruction of Hurricane Katrina made apparent the need for emergency response radio systems that can interoperate, regardless of which organization manufactured the equipment. In response, and per congressional direction, DHS and the National Institute of Standards and Technology (NIST) developed the P25 CAP to improve the emergency response community's confidence in purchasing land mobile radio (LMR) equipment built to P25 LMR standards. The P25 CAP establishes a process for ensuring that equipment complies with P25 standards and is capable of interoperating across manufacturers. The Department of Homeland Security needs to be able to collect essential information from manufacturers on their products that have met P25 standards as demonstrated through the P25 CAP. Equipment suppliers will provide information to publicly attest to their products' compliance with a specific set of P25 standards. Accompanied by a Summary Test Report that substantiates this declaration, the SDoC constitutes a company's formal, public attestation of compliance with the standards for the equipment. In providing this information, companies will consent to making this information public. In turn, the emergency response community will use this information to identify P25-compliant communications systems. The P25 CAP Program Manager will perform a simple administrative review to ensure the documentation is complete and accurate in accordance with the current P25 CAP processes. This notice and request for comments is required by the Paperwork Reduction Act of 1995 (Pub. L. 104-13, 44 U.S.C. chapter 35).

DATES: Comments are encouraged and will be accepted until February 27, 2012.

ADDRESSES: Interested persons are invited to submit comments, identified by docket number DHS-2011-0118, by one of the following methods:

• Federal eRulemaking Portal: http://www.regulations.gov. Please follow the instructions for submitting comments.

• Email: Millie.Ives@hq.dhs.gov. Please include docket number DHS-2011-0118 in the subject line of the message.

• Fax: (202) 254-6171. (Not a toll-free number).

• Mail: Science and Technology Directorate, ATTN: Chief Information Office—Millie Ives, 245 Murray Drive, Mail Stop 0202, Washington, DC 20528.

FOR FURTHER INFORMATION CONTACT: DHS S&T PRA Coordinator Millie Ives (202) 254-6828 (Not a toll free number).

SUPPLEMENTARY INFORMATION: The SDoC and Summary Test Report forms will be posted on the Responder Knowledge Base (RKB) Web site at http://www.rkb.us. The forms will be available in Adobe PDF format. The supplier will complete the forms electronically. The completed forms may then be submitted via Internet to the RKB Web site.

The Department is committed to improving its information collection and urges all interested parties to suggest how these materials can further reduce burden while seeking necessary information under the Act.

DHS is particularly interested in comments that:

(1) Evaluate whether the proposed collection of information is necessary for the proper performance of the functions of the agency, including whether the information will have practical utility;

(2) Evaluate the accuracy of the agency's estimate of the burden of the proposed collection of information, including the validity of the methodology and assumptions used;

(3) Suggest ways to enhance the quality, utility, and clarity of the information to be collected; and

(4) Suggest ways to minimize the burden of the collection of information on those who are to respond, including through the use of appropriate automated, electronic, mechanical, or other technological collection techniques or other forms of information technology, e.g., permitting electronic submissions of responses.

Overview of This Information Collection

(1) Type of Information Collection: Renewal of information collection.

(2) Title of the Form/Collection: Science and Technology, Project 25 (P25) Compliance Assessment Program (CAP).

(3) Agency Form Number, if any, and the applicable component of the Department of Homeland Security sponsoring the collection: Department of Homeland Security, Science & Technology Directorate—(1) Supplier's Declaration of Compliance (SDoC) (DHS Form 10044 (6/08)) (2) Summary Test Report (DHS Form 10056 (9/08)).

(4) Affected public who will be asked or required to respond, as well as a brief abstract: Businesses; the data will be gathered from manufacturers of radio systems who wish to declare that their products are compliant with P25 standards for radio systems.

(5) An estimate of the total number of respondents and the amount of time estimated for an average respondent to respond:

a. Estimate of the total number of respondents: 12.

b. Estimate of number of responses per respondent: 6.

c. An estimate of the time for an average respondent to respond: 4 burden hours (2 burden hour for each form).

d. An estimate of the total public burden (in hours) associated with the collection: 288 burden hours.

Dated: December 13, 2011.
Rick Stevens,
Chief Information Officer for Science and Technology.

[FR Doc. 2011-33426 Filed 12-28-11; 8:45 am]

BILLING CODE 9110-9F-P